DEPARTMENT OF ENERGY

U.S. Energy Information Administration

Agency Information Collection Extension

AGENCY: U.S. Energy Information Administration (EIA), Department of Energy.

ACTION: Notice and request for OMB review and comment.

SUMMARY: EIA has submitted an information collection request to the OMB for extension under the provisions of the Paperwork Reduction Act of 1995. The information collection requests a three-year extension of its Petroleum Marketing Program, OMB Control Number 1905-0174. The proposed collection will collect basic data necessary to meet EIA's legislative mandates as well as the needs of EIA's public and private customers. Data collected include costs, sales, prices, and distribution of crude oil and petroleum products. The data are used for analyses, publications, and multi-fuel reports. Respondents are refiners, first purchasers, gas plant operators, resellers/retailers, motor gasoline wholesalers, suppliers, distributors and importers. EIA intends to extend for three years the petroleum marketing survey forms listed below:

EIA-14, “Refiners' Monthly Cost Report”

EIA-182, “Domestic Crude Oil First Purchase Report”

EIA-782A, “Refiners'/Gas Plant Operators' Monthly Petroleum Product Sales Report”

EIA-782C, “Monthly Report of Prime Supplier Sales of Petroleum Products Sold for Local Consumption”

EIA-821, “Annual Fuel Oil and Kerosene Sales Report”

EIA-856, “Monthly Foreign Crude Oil Acquisition Report”

EIA-863, “Petroleum Product Sales Identification Survey”

EIA-877, “Winter Heating Fuels Telephone Survey”

EIA-878, “Motor Gasoline Price Survey”

EIA-888, “On-Highway Diesel Fuel Price Survey”

DATES: Comments regarding this proposed information collection must be received on or before September 6, 2012. If you anticipate that you will be submitting comments, but find it difficult to do so within the period of time allowed by this notice, please advise the DOE Desk Officer at OMB of your intention to make a submission as soon as possible. The Desk Officer may be telephoned at 202-395-4718.

ADDRESSES: Written comments should be sent to the DOE Desk Officer, Office of Information and Regulatory Affairs, Office of Management and Budget, New Executive Office Building, Room 10102, 735 17th Street NW., Washington, DC 20503; and to Jason Worrall, Office of Survey Development and Statistical Integration, U.S. Energy Information Administration, Forrestal Building, 1000 Independence Ave. SW., U.S. Department of Energy, Washington, DC 20585-0670, (202) 586-6075 (phone).

FOR FURTHER INFORMATION CONTACT: Requests for additional information or copies of the information collection instrument and instructions should be directed to Jason Worrall at the contact information above. Alternatively Mr. Worrall may be emailed at, Jason.Worrall@eia.gov. Copies of the information collection instruments and instructions can also be viewed at http://www.eia.gov/survey.

SUPPLEMENTARY INFORMATION: This information collection request contains: (1) OMB No. 1905-0174; (2) Information Collection Request Title: Petroleum Marketing Program; (3) Type of Request: Renewal with Change; (4) Purpose: The Federal Energy Administration Act of 1974 (15 U.S.C. 761 et seq.) and the DOE Organization Act (42 U.S.C. 7101 et seq.) require EIA to carry out a centralized, comprehensive, and unified energy information program. This program collects, evaluates, assembles, analyzes, and disseminates information on energy resource reserves, production, demand, technology, and related economic and statistical information.

This information is used to assess the adequacy of energy resources to meet near and longer term domestic demands.

EIA's petroleum marketing survey forms collect volumetric and price information needed for determining the supply of and demand for crude oil and refined petroleum products. These surveys provide a basic set of data pertaining to the structure, efficiency, and behavior of petroleum markets.

These data are published by EIA on its Web site, http://www.eia.gov, as well as in publications such as the Monthly Energy Review (http://www.eia.gov/totalenergy/data/monthly/), Annual Energy Review (http://www.eia.gov/totalenergy/data/annual/), Petroleum Marketing Monthlyhttp://www.eia.gov/oil_gas/petroleum/data_publications/petroleum_marketing_monthly/pmm.html), Weekly Petroleum Status Report http://www.eia.gov/oil_gas/petroleum/data_publications/weekly_petroleum_status_report/wpsr.html), and the International Energy Outlook (http://www.eia.gov/forecasts/ieo/); (5) Annual Estimated Number of Respondents: 11,953; (6) Annual Estimated Number of Total Responses: 106,661; (7) Annual Estimated Number of Burden Hours: 56,186; (8) Annual Estimated Reporting and Recordkeeping Cost Burden: 0. EIA estimates that there are no additional costs to respondents associated with the surveys other than the costs associated with the burden hours.

Statutory Authority: Section 13(b) of the Federal Energy Administration Act of 1974, Pub. L. 93-275, codified at 15 U.S.C. 772(b).

Issued in Washington, DC, on August 1, 2012.
Stephanie Brown,
Director, Office of Survey Development and Statistical Integration, U. S. Energy Information Administration.

[FR Doc. 2012-19267 Filed 8-6-12; 8:45 am]

BILLING CODE 6450-01-P